DEPARTMENT OF AGRICULTURE

Farm Service Agency

[Docket ID: FSA-2023-0006]

Information Collection Requests; Direct Loan Servicing—Regular; and Servicing Minor Program Loans

AGENCY: Farm Service Agency, USDA.

ACTION: Notice; request for comments.

SUMMARY: In accordance with the Paperwork Reduction Act (PRA) requirement, the Farm Service Agency (FSA) is requesting comments from all interested individuals and organizations on a revision of two currently approved information collection requests, Direct Loan Servicing—Regular and Servicing Minor Program Loans, respectively. In the Direct Loan Servicing—Regular, the information is used to determine borrower compliance with loan agreements, assist the borrower in achieving business goals, and regular servicing of the loan account such as graduation, subordination, partial release, use of proceeds, and consent. In Servicing Minor Program Loans, the information collected is used to perform routine and special servicing actions for loans authorized and serviced under FSA's Minor Loan Program.

DATES: We will consider comments that we receive by May 16, 2023.

ADDRESSES: We invite you to submit comments in response to this notice. FSA prefers that the comments are submitted electronically through the Federal eRulemaking Portal, identified by Docket ID No. FSA-2023-0006, go to http://www.regulations.gov and search for docket ID FSA-2023-0006. Follow the online instructions for submitting comments.

All comments received will be posted without change and made publicly available on www.regulations.gov.

FOR FURTHER INFORMATION CONTACT: Lee Nault; by telephone: (202) 720-6834; or by email: lee.nault@usda.gov. Individuals who require alternative means for communication should contact the USDA TARGET Center at (202) 720-2600 (voice and text telephone (TTY)) or dial 711 for Telecommunications Relay service (both voice and text telephone users can initiate this call from any telephone).

SUPPLEMENTARY INFORMATION:

Description of 2 Information Collection Requests

Title: Servicing Minor Program Loans.

OMB Control Number: 0560-0230.

Expiration Date: December 31, 2025.

Type of Request: Revision.

Abstract: Section 331(b) of the Consolidated Farm and Rural Development Act (CONACT, 7 U.S.C. 1981(b)), in part, authorizes the Secretary of Agriculture to modify, subordinate and release terms of security instruments, leases, contracts, and agreements entered by FSA. The section also authorizes transfers of security property, as the Secretary deems necessary, to carry out the purpose of the loan or protect the Government's financial interest. Section 335 of the CONACT (7 U.S.C. 1985) provides servicing authority for real estate security, operation or lease of realty, disposition of property, conveyance of real property interest of the United States, easements, and condemnations.

The information collection relates to a program benefit recipient or loan borrower requesting action on security they own, which was purchased with FSA loan funds, improved with FSA loan funds or has otherwise been mortgaged to FSA to secure a Federal Government loan. The information collected is primarily financial data not already on file, such as borrower asset values, current financial information and public use and employment data.

To better serve borrowers' minor loan program servicing requests, FSA is retiring form FSA-2060 “Application for Partial Release, Subordination (Real or Personal), or Consent”. FSA has created two new forms, FSA-2061 “Application for Partial Release or Consent” and FSA-2062 “Application for Subordination of Security for Commercial Credit”; both new forms captured the information previously requested on the FSA-2001 and FSA-2060 that will replace the FSA-2060 and eliminating the need for FSA-2001 for regular and routine servicing requests.

FSA is requesting OMB approval on the new two forms. With the retiring of FSA-2060 and the addition of FSA-2061 and FSA-2062, the estimated burden hours have not changed. A review of previous FSA-2060 usage over the past five years revealed no usage of the form to service minor program loans. While significant usage of the new forms replacing the FSA-2060 is not anticipated, these forms are included as part of this collection package due to the need for them to complete potential minor program servicing requests. No anticipated increase or decrease in usage for loans serviced under this program is expected.

For the following estimated total annual burden on respondents, the formula used to calculate the total burden hours is the estimated average time per responses hours multiplied by the estimated total annual responses.

Estimate of Annual Burden: Public reporting burden for this collection of information is estimated to average 0.63 hours per response.

Type of Respondents: Individuals, associations, partnerships, or corporations.

Estimated Number of Respondents: 58.

Estimated Annual Number of Responses per Respondent: 1.

Estimated Total Annual of Responses: 58.

Estimated Average Time per Responses: 0.63 hours.

Estimated Total Annual Burden on Respondents: 37 hours.

Title: Farm Loan Programs—Direct Loan Servicing—Regular.

OMB Control Number: 0560-0236.

OMB Expiration Date: December 31, 2025.

Type of Request: Revision.

Abstract: FSA's Farm Loan Programs provide loans to family farmers to purchase real estate and equipment, and finance agricultural production. Direct Loan Servicing—Regular, as specified in 7 CFR part 765, provides the requirements related to regular and routine servicing actions associated with direct loans. FSA is required to actively supervise its borrowers and provide credit counseling, management advice and financial guidance. Additionally, FSA must document that credit is not available to the borrower from commercial credit sources for borrowers to maintain eligibility for assistance. Information collections established in the regulation are necessary for FSA to monitor and account for loan security, including proceeds derived from the sale of security, and to process a borrower's request for subordination, partial release of security, or consent. Borrowers are required to provide financial information to determine graduation eligibility based on commercial lender standards provided to FSA.

To better serve borrowers' regular and routine servicing requests, FSA is retiring form FSA-2060 “Application for Partial Release, Subordination (Real or Personal), or Consent”. The form FSA-2061 “Application for Partial Release or Consent,” and form FSA-2062 “Application for Subordination of Security for Commercial Credit” are new forms; both new forms captured the information previously requested on the FSA-2001 and FSA-2060 that will replace the FSA-2060 and eliminating the need for FSA-2001 for regular and routine servicing requests.

FSA is requesting OMB approval for the new two forms. The burden hours estimate has been increased by 177 hours while the estimated annual responses have increased by 88. The increase in burden is not attributed to additional completion time related to either new form but instead is an overall estimated increase in total future usage of the forms based on the number of borrowers who utilize the FSA-2060 to request servicing actions over the past five years.

For the following estimated total annual burden on respondents, the formula used to calculate the total burden hours is the estimated average time per responses multiplied by the estimated total annual of responses.

Estimate of Annual Burden: Public reporting burden for this collection of information is estimated to average 0.309 hours per response.

Type of Respondents: Individuals, associations, partnerships, or corporations.

Estimated Number of Respondents: 94,768.

Estimated Annual Number of Responses per Respondent: 1.0462.

Estimated Total Annual of Responses: 99,147.

Estimated Average Time per Responses: 0.309 hours.

Estimated Total Annual Burden on Respondents: 30,638 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including using appropriate automated, electronic, mechanical, or other technological collection techniques or other forms of information technology.

All comments received in response to this notice, including names and addresses when provided, will be a matter of public record. Comments will be summarized and included in the submission for Office of Management and Budget approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency.

[FR Doc. 2023-05464 Filed 3-16-23; 8:45 am]

BILLING CODE 3410-EB-P